DEPARTMENT OF HEALTH AND HUMAN SERVICES

Administration for Children and Families

Submission for OMB Review; Comment Request

Title: Sponsorship Review Procedures for Approval for Unaccompanied Alien Children.

OMB No.: 0970-0278.

Description: The Administration for Children (ACF), Office of Refugee Resettlement (ORR) requests the use of emergency processing procedures in accordance with 5 CFR Section 1320.13 to expand the scope of an existing information collection under OMB control number 0970-0278, Reunification Procedures for Unaccompanied Alien Children, renamed to Sponsorship Review Procedures for Approval of Unaccompanied Alien Children. The information collection will allow ACF to conduct suitability assessments to vet potential sponsors of unaccompanied alien children in accordance with a Memorandum of Agreement (MOA) between ORR and the Department of Homeland Security. Specifically, the information collection allows ORR to obtain biometric and biographical information from sponsors, adult members of their household, and adult care givers identified in a sponsor care plan, where applicable. ORR in turn shares the information collected with other federal departments to conduct background checks. ORR intends the instruments used in this submission to be available for use by mid-May 2018.

ACF cannot reasonably comply with the normal clearance procedures because the use of normal clearance procedures is reasonably likely to prevent the collection of needed information in a timely manner. Complying with the normal clearance procedures would delay or disrupt ORR's ability to expand the background checks in order to more comprehensively evaluate the suitability of potential sponsors of unaccompanied alien children, and to ensure safe and appropriate placement of children. The information collection is essential to the mission of the agency.

Respondents: Sponsors, adult household members, parents or legal guardians of unaccompanied alien children.

Annual Burden Estimates
Instrument | Number of respondents | Number of responses per respondent | Average burden hours per response | Total burden hours
Family Reunification Application | 50,000 | 1 | 0.75 | 37,500
Authorization for Release of Information | 90,000 | 1 | 0.5 | 45,000
Fingerprint Instructions | 90,000 | 1 | 1.25 | 112,500
Letter of Designation | 25,000 | 1 | 0.5 | 12,500

Estimated Total Annual Burden per Respondent: 207,500.

Additional Information: Copies of the proposed collection may be obtained by writing to the Administration for Children and Families, Office of Planning, Research and Evaluation, 330 C Street SW, Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert A. Sargis,
Reports Clearance Officer.

[FR Doc. 2018-18351 Filed 8-23-18; 8:45 am]

BILLING CODE 4184-01-P